FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Bank Holding Company Applications and Notifications (FR Y-3, FR Y-3N, and FR Y-4; OMB No. 7100-0121).

DATES: The revisions are effective as of August 28, 2024.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR Y-3, FR Y-3N, and FR Y-4.

Final Approval Under OMB Delegated Authority of the Extension for Three Years, With Revision, of the Following Information Collections

Collection title: Bank Holding Company Applications and Notifications.

Collection identifier: FR Y-3, FR Y-3N, and FR Y-4.

OMB control number: 7100-0121.

General description of collection: These filings collect information on proposals by Bank Holding Companies (BHCs) involving formations, acquisitions, mergers, and nonbanking activities. The Board requires the submission of these filings for regulatory and supervisory purposes and to allow the Board to fulfill its statutory obligations under the Bank Holding Company Act of 1956. The Board uses this information to evaluate each individual transaction with respect to financial and managerial factors, permissibility, competitive effects, financial stability, net public benefits, and impact on the convenience and needs of affected communities.

Frequency: Event-generated.

Respondents: BHCs and any company seeking to become a BHC.

Total estimated number of respondents: 335.

Total estimated change in burden: 388.

Total estimated annual burden hours: 7,603.

Current actions: On April 30, 2024, the Board published a notice in the Federal Register (89 FR 34246) requesting public comment for 60 days on the extension, with revision, of the FR Y-3, FR Y-3N, and FR Y-4. The Board proposed to revise the FR Y-3, FR Y-3N, and FR Y-4 forms and instructions to update or add certain citations and references; delete language that requires an explanation of the assumptions used in financial projections only if the projections deviate from historical performance; remove the sample publication from the instructions; add questions regarding groups acting in concert, individuals who would own 10 percent or more of the applicant, and companies that would own five percent or more of the applicant; add a requirement that applicants provide a breakdown of pro forma equity; add a requirement that applicants identify any management official of the applicant who is also a management official at another depository institution; and add a question regarding the integration of the target into the applicant. The comment period for this notice expired on July 1, 2024. The Board did not receive any comments. The revisions will be implemented as proposed.

Board of Governors of the Federal Reserve System, July 24, 2024.
Michele Taylor Fennell,
Deputy Associate Secretary of the Board.

[FR Doc. 2024-16598 Filed 7-26-24; 8:45 am]

BILLING CODE 6210-01-P